DEPARTMENT OF ENERGY

Federal Energy Regulatory Commission

Combined Notice of Filings #1

September 6, 2007.

Take notice that the Commission received the following electric rate filings:

Docket Numbers: ER03-1207-005.

Applicants: AES Delano, Inc.

Description: AES Delano, Inc.'s Notice of Change in Status.

Filed Date: 08/16/2007.

Accession Number: 20070816-5011.

Comment Date: 5 p.m. Eastern Time on Thursday, September 13, 2007.

Docket Numbers: ER07-1221-001.

Applicants: Rensselaer Cogeneration LLC.

Description: Rensselaer Cogeneration LLC submits its triennial updated market power analysis.

Filed Date: 09/04/2007.

Accession Number: 20070906-0057.

Comment Date: 5 p.m. Eastern Time on Tuesday, September 25, 2007.

Docket Numbers: ER07-1293-001.

Applicants: Upper Peninsula Power Company.

Description: Upper Peninsula Power Company submits an executed version of the Short-Term Sales Agreement with the Escanaba Municipal Utility for the sales of short-term capacity and energy etc.

Filed Date: 08/31/2007.

Accession Number: 20070905-0021.

Comment Date: 5 p.m. Eastern Time on Friday, September 21, 2007.

Docket Numbers: ER07-1305-001.

Applicants: Port Washington Generating Station LLC.

Description: Port Washington Generating Station, LLC submits the executed Power Purchase Agreement Providing for Sales of Test Power with Wisconsin Electric Power Co.

Filed Date: 09/04/2007.

Accession Number: 20070905-0065.

Comment Date: 5 p.m. Eastern Time on Tuesday, September 25, 2007.

Docket Numbers: ER07-1331-000.

Applicants: Indianapolis Power & Light Company.

Description: Indianapolis Power & Light Co., submits a letter agreement with Wabash Valley Power Association, Inc., re an extension of Rate Schedule FERC 21.

Filed Date: 09/04/2007.

Accession Number: 20070905-0069.

Comment Date: 5 p.m. Eastern Time on Tuesday, September 25, 2007.

Docket Numbers: ER07-1332-000.

Applicants: Smoky Hills Wind Farm, LLC.

Description: Smoky Hills Wind Farm, LLC submits an application for order accepting market-based rate tariff, granting waivers and blanket authority.

Filed Date: 09/04/2007.

Accession Number: 20070905-0070.

Comment Date: 5 p.m. Eastern Time on Tuesday, September 25, 2007.

Docket Numbers: ER07-1333-000.

Applicants: New England Power Company.

Description: New England Power Co., submits an amended Large Generator Interconnection Agreement with Dominion Energy Salem Harbor, LLC.

Filed Date: 08/31/2007.

Accession Number: 20070905-0071.

Comment Date: 5 p.m. Eastern Time on Friday, September 21, 2007.

Docket Numbers: ER07-1338-000.

Applicants: ISO New England Inc.

Description: ISO New England Inc., et al. submits revisions to the Forward Capacity Market rules conditionally accepted by FERC on 4/16/07.

Filed Date: 08/31/2007.

Accession Number: 20070905-0074.

Comment Date: 5 p.m. Eastern Time on Friday, September 21, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Acting Deputy Secretary.

[FR Doc. E7-17946 Filed 9-11-07; 8:45 am]

BILLING CODE 6717-01-P